ENVIRONMENTAL PROTECTION AGENCY

[ER-FRL-6619-2]

Environmental Impact Statements; Notice of Availability

Responsible Agency: Office of Federal Activities, General Information (202) 564-7167 or www.epa.gov/oeca/ofa

Weekly Receipt of Environmental Impact Statements

Filed June 11, 2001 Through June 15, 2001

Pursuant to 40 CFR 1506.9.

EIS No. 010214, Draft EIS, HUD, CA, West Hollywood Gateway Project, Constructing from Santa Monica Boulevard, Romaine Street LaBrea Avenue and Formosa Avenue, Public/Private Partnership, City of West Hollywood, Los Angeles County, CA, Due: August 6, 2001, Contact: DeAnn Johnson (323) 890-7186.

EIS No. 010215, Draft EIS, COE, CA, Port of Long Beach Pier J South Terminal, Redevelopment of Two Existing Marine Container Terminal into One Terminal, COE Section 404, 401 and 10 Permits, Comment Period Ends: August 6, 2001, Contact: Aaron O. Allen (619) 294-9400.

EIS No. 010216, Final EIS, NPS, CA, NV, CA, NV, Death Valley National Park General Management Plan, Implementation, Mojave Desert, Inyo and San Bernardino Counties, CA and Nye and Esmeralda Counties, NV, Wait Period Ends: July 23, 2001, Contact: Dennis Shramm (760) 255-8840.

EIS No. 010217, Final EIS, NPS, CA, Mojave National Preserve General Management Plan, Implementation, San Bernardino County, CA, Wait Period Ends: July 23, 2001, Contact: Dennis Schamm (760) 255-8840.

EIS No. 010218, Final EIS, AFS, MI, Plantation Lakes Vegetation Management Project, Implementation, Ottawa National Forest, Kenton and Ontonagon Ranger Districts, Houghton County, MI, Wait Period Ends: July 23, 2001, Contact: Karen Stevens (906) 932-1330.

EIS No. 010219, Draft EIS, FHW, MO, U.S. Route 67 Corridor Project, Improvements from South of Fredericktown to the South of Neelyville, Madison, Wayne and Butler Counties, MO, Comment Period Ends: August 6, 2001, Contact: Donald Newmann (573) 636-7104.

EIS No. 010220, Draft EIS, NRC, FL, Generic EIS—License Renewal of Nuclear Power Plants, Supplement 5 Turkey Point Units 3 and 4 (NUREG-1437), Operating License Renewal, Biscayne Bay, Miami-Dade County, FL, Comments Period Ends: August 6, 2001, Contact: James H. Wilson (301) 415-1108.

EIS No. 010221, Final EIS, JUS, WA, Tacoma/Seattle Area Detention Center, Construction and Leasing, Pierce County, WA, Wait Period Ends: July 23, 2001, Contact: Eric Verwers (817) 978-0202.

EIS No. 010222, Draft EIS, DOE, AZ, ID, NV, OR, WY, CA, MT, NM, UT, Fish and Wildlife Implementation Plan, To Implement and Fund a Policy Directions for Fish and Wildlife Mitigation and Recovery, Pacific Northwest, AZ, CA, ID, MT, NV, NM, OR, UT, WY and British Columbia, Comment Period Ends: August 6, 2001, Contact: Charles Alton (503) 230-3900.

EIS No. 010223, Draft EIS, DOE, AZ, Big Sandy Energy Project, Construction and Operation a 720-megawatt (MW) Natural Gas-Fire Combined-Cycle Power Plants, Right-of-Way Grant, Mohave County, AZ, Comment Period Ends: August 6, 2001, Contact: John Holt (602) 352-2592.

EIS No. 010224, Draft EIS, AFS, MT, Pink Stone Fire Recovery and Associated Activities, To Reduce Existing and Expected Future Fuel Accumulations, Kootena National Forest, Rexford Ranger District, Lincoln County, MT, Comment Period Ends: August 6, 2001, Contact: Ron Komac (406) 296-2536.

EIS No. 010225, Final EIS, FTA, CA, ADOPTION—64-Acre Tract Intermodal Transit Center, Construction and Operation Lake, Tahoe Basin Management Unit, Tahoe City, Placer County, CA, Contact: Jerome Wiggins (415) 744-3115. The US Department of Transportation's, Federal Transit Administration (DOT/FTA) has ADOPTED the US Department of Agricultural's, Forest Service FEIS #000355, filed on 10/12/2000 and appearing in the FR on 10/20/2000. DOT/FTA was a Cooperating Agency for the above project. Recirculation of the FEIS is not necessary under Section 1506.3(c) of CEQ Regulations.

Amended Notices

EIS No. 010159, Draft SUPPLEMENT, DOE, NV, Geologic Repository for the Disposal of Spent Nuclear Fuel and High-Level Radioactive Waste, Construction, Operation, Monitoring and Eventually Closing a Geologic Repository at Yucca Mountain, Updated and Additional Information, Nye County, NV, Due: July 6, 2001, Contact: Jane R. Summerson (702) 794-1493. Revision of FR Notice Published on 5/11/2001: CEQ Review Period Ending 6/25/2001 has been Extended to 7/6/2001.

EIS No. 010193, Final EIS, FAA, Programmatic EIS—Commercial Launch Vehicles, Implementation, Issuing a Launch License, Due: July 2, 2001, Contact: Michon Washington (202) 267-9305. Revision of FR notice published on 6/1/2001: CEQ Wait Period Ending 7/20/2001 has been Corrected to 7/2/2001.

Dated: June 19, 2001.
Joseph C. Montgomery,
Director, NEPA Compliance Division, Office of Federal Activities.

[FR Doc. 01-15775 Filed 6-21-01; 8:45 am]

BILLING CODE 6560-50-U